DEPARTMENT OF THE INTERIOR

Bureau of Land Management

[LLHQ260000.L10600000. PC0000.00.21X]

Virtual Hearing on the Use of Motorized Vehicles and Aircraft

AGENCY: Bureau of Land Management, Interior.

ACTION: Notice of public hearing.

SUMMARY: In accordance with the Federal Land Policy and Management Act of 1976, the U.S. Department of the Interior, Bureau of Land Management (BLM) announces the date of a virtual public hearing regarding the use of motorized vehicles and aircraft in the management of wild horses and burros on public lands.

DATES: The BLM will hold a virtual public hearing on Tuesday, May 25, 2021, from 3 p.m. to 5 p.m. Mountain Daylight Time (MDT).

ADDRESSES: The virtual public hearing will be held via the Zoom Webinar Platform. Written comments pertaining to the hearing and written statements that will be presented to the BLM may be filed in advance of the hearing through the Motorized Vehicles email address at BLM_HQ_MotorizedVehicleHearing@blm.gov. Please include “Motorized Vehicles Comment” in the subject line of the email.

FOR FURTHER INFORMATION CONTACT: Dorothea Boothe, Wild Horse and Burro Program Coordinator; telephone: (602) 906-5543, email: dboothe@blm.gov. Individuals that use a telecommunications device for the deaf (TDD) may call the Federal Relay Service (FRS) at (800) 877-8339 to contact Ms. Boothe during normal business hours. The FRS is available 24 hours a day, 7 days a week. All responses will be during normal business hours.

SUPPLEMENTARY INFORMATION: In accordance with the Federal Land Policy and Management Act of 1976 and 43 CFR 4740.1(b), the BLM will hold a virtual public hearing on the use of motorized vehicles, helicopters, and fixed-wing aircraft in the management of wild horses and burros on public lands. The public will be notified of future hearings through press releases in addition to other public-facing methods (e.g., the BLM website).

Although the BLM has previously held localized, in-person meetings on the use of motorized vehicles and aircraft in the management of wild horses and burros on public lands, the BLM has determined that, in light of the ongoing COVID-19 pandemic, a virtual hearing is necessary to ensure the safety of the public and Federal employees. Additionally, a virtual meeting that applies to all Western states where the BLM manages wild horses and burros on public lands will provide an opportunity for broader participation by members of the public who might be unable to travel and attend an in-person meeting

The hearing will be open to the public and will be live streamed at www.blm.gov/live and through the Zoom Webinar Platform.

Information about the hearing and how to register to speak will be posted 3 days prior to the hearing online at www.blm.gov/whb. The public will have an opportunity to provide verbal comments to the BLM during the 2-hour comment period or by submitting written comments to the BLM email address (see ADDRESSES) by 5 p.m. MDT on Monday, May 24.

Beyond live captioning, any person(s) with special needs, such as an auxiliary aid, interpreting service, assistive listening device, or materials in an alternate format, must notify Ms. Boothe 3 days before the scheduled hearing date. It is important to adhere to the 3-day notice to allow enough time to arrange for the auxiliary aid or special service. Live captioning will be available throughout the event on both the Zoom Webinar Platform and the livestream page at www.blm.gov/live.

Public Comment Procedures

The BLM welcomes comments from all interested parties. Members of the public will have an opportunity to make statements (audio only) to the BLM regarding the use of motorized vehicles and aircraft in the management of wild horses and burros on Tuesday, May 25, from 3 p.m. to 5 p.m. MDT. To accommodate all individuals interested in providing comments, please register with the BLM 3 days in advance of the hearing. Individuals who have not registered in advance but would like to offer comments will be permitted if time allows. Information on how to register, login, and participate in the virtual hearing will be announced at least 3 days in advance of the hearing on the BLM website at https://www.blm.gov/whb. Participants using desktops, laptops, smartphones, and other personal digital devices will be able to participate via audio only. Those with phone-only access will also be able to participate via a provided phone number and meeting ID. The BLM may limit the length of comments, depending on the number of participants who register in advance. Please see the ADDRESSES section earlier for the BLM email address and include “Motorized Vehicles Comment” in the subject line of your email. The BLM will record the entire hearing, including the allotted comment time. Comments should be specific and address the use of motorized vehicles and aircraft in the management of wild horses and burros.

Before including your address, phone number, email address, or other personal identifying information in your comment, you should be aware that your entire comment—including your personal identifying information—may be made publicly available at any time. While you can ask us in your comment to withhold your personal identifying information from public review, the BLM cannot guarantee that it will be able to do so.

(Authority: 43 CFR 4740.1(b))

David B. Jenkins,
Assistant Director, Resources and Planning.

[FR Doc. 2021-10621 Filed 5-19-21; 8:45 am]

BILLING CODE 4310-84-P